DEPARTMENT OF COMMERCE

International Trade Administration

Corporate Session With Nigerian Officials: Event Announcement

AGENCY: International Trade Administration, Commerce.

ACTION: Notice of Nigeria business event opportunity.

SUMMARY: The U.S. Department of Commerce invites U.S. companies to participate in a corporate session with Nigerian Government officials as part of the U.S.-Nigeria Joint Economic Partnership Commission on June 14, 2000 in Abuja, Nigeria. The corporate session is composed of a working breakfast, sector-specific meetings, and a keynote luncheon.

DATES: Requests must be received no later than May 15, 2000.

ADDRESSES: In order to receive full consideration for this event, send a 1-2 page summary of your company's business experience in Nigeria and/or your current concerns about doing business in Nigeria to Douglas Wallace, USDOC Nigeria Desk Officer, by mail to Room 2037, U.S. Department of Commerce, Washington, D.C. 20230, or by fax at (202) 482-5198.

FOR FURTHER INFORMATION CONTACT: Mr. Douglas Wallace, USDOC Nigeria Desk Officer, Office of Africa, Room 2037, U.S. Department of Commerce, Washington, D.C. 20230; telephone: (202) 482-5149.

Notice of Business Event Opportunity

U.S. and Nigerian Government officials will hold the second round of the U.S.-Nigeria Joint Economic Partnership Commission (JEPC) in Abuja on June 12-14, 2000. The purpose of the JEPC is to open channels of discussion between high-ranking USG and GON officials on issues affecting the economic and commercial relationship between the two countries.

The U.S. Department of Commerce is organizing a Corporate Session on June 14 to focus on U.S. private sector concerns about the Nigerian business environment. The Corporate Session will give U.S. companies the opportunity to present to Nigerian decision makers the obstacles they face in doing business in Nigeria and suggest possible trade and regulatory changes which would help create a more attractive environment for U.S. trade and investment. The Corporate Session will also allow the Nigerian officials to announce specific opportunities related to priority sectors in Nigeria.

The following is an outline of the Corporate Session to date:

June 14, 2000

9:00-10:00 a.m.—Working Breakfast

The Corporate Session will begin with a one-hour working breakfast involving USG and GON officials and U.S. and Nigerian private sector representatives. The leader of the Nigerian side, Chief Economic Advisor to the President Philip Asiodu, will welcome the participants, summarize the Nigerian economic situation and business environment, and outline the GON's expected policy changes in the near term. Asiodu will then invite the USG leader, State Under Secretary Alan Larson, to summarize the developments and issues raised during the JEPC discussions for the private sector participants.

10 a.m.-12:30 p.m.—Sector-Specific Meetings

Upon conclusion of the working breakfast, participants will separate into four sector-specific meetings: (1) agribusiness, (2) telecom, (3) transportation, and (4) energy/environmental technologies. Each sub-group will be co-led by a USG official who will introduce the GON leader and act as discussion moderator. After brief remarks from the Nigerian side, U.S. and Nigerian public and private sector participants will engage in an open, sector-specific dialogue.

12:30-2:00 p.m.—Lunch

The Corporate Session Luncheon will feature a keynote speech and further questions/answers.

Edward Casselle,
Deputy Assistant Secretary for Africa.

[FR Doc. 00-10900 Filed 5-1-00; 8:45 am]

BILLING CODE 3510-DA-U